FEDERAL COMMUNICATIONS COMMISSION

[DA 23-286; FR ID 135735]

Disability Advisory Committee; Announcement of Meeting

AGENCY: Federal Communications Commission.

ACTION: Notice.

SUMMARY: In this document, the Commission announces and provides an agenda for the first meeting of the fifth term of its Disability Advisory Committee (DAC or Committee).

DATES: Wednesday, April 26, 2023. The meeting will come to order at 1:00 p.m. Eastern Time.

ADDRESSES: The DAC meeting will be held remotely, with video and audio coverage at: www.fcc.gov/live.

FOR FURTHER INFORMATION CONTACT: Joshua Mendelsohn, Designated Federal Officer, Federal Communications Commission, Consumer and Governmental Affairs Bureau, (202) 559-7304, or email: Joshua.Mendelsohn@fcc.gov.

SUPPLEMENTARY INFORMATION: This meeting is open to members of the general public. The meeting will be webcast with sign language interpreters and open captioning at: www.fcc.gov/live. In addition, a reserved amount of time will be available on the agenda for comments and inquiries from the public. Members of the public may comment or ask questions of presenters via livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the DAC is expected to receive briefings from Commission staff on issues of interest to the Committee and may discuss topics of interest to the Committee.

Federal Communications Commission.
Suzanne Singleton,
Chief, Disability Rights Office, Consumer and Governmental Affairs Bureau.

[FR Doc. 2023-08764 Filed 4-25-23; 8:45 am]

BILLING CODE 6712-01-P